COMMODITY FUTURES TRADING COMMISSION

Technology Advisory Committee Second Renewal

The Commodity Futures Trading Commission has determined to renew for a period of two years its Technology Advisory Committee. The Commission has determined that the renewal of the advisory committee is in the public interest in connection with duties imposed on the Commission by the Commodity Exchange Act, 7 U.S.C. 1, et seq., as amended.

The purpose of the Technology Advisory Committee is to advise the Commission on the impact and implications of technological innovation in the financial services and commodity markets. Meetings of the Technology Advisory Committee are public.

Interested presons may obtain information or make comments by writing to the Commodity Futures Trading Commission, Three Lafayette Centre, 1155 21st Street, NW., Washington, DC 20581.

Issued in Washington, DC on October 31, 2003, by the Commission.
Catherine D. Dixon,
Assistant Secretary of the Commission.

[FR Doc. 03-27910 Filed 11-5-03; 8:45 am]

BILLING CODE 6351-01-M